DEPARTMENT OF COMMERCE

International Trade Administration

[A-507-502]

Certain In-Shell (Raw) Pistachios From the Islamic Republic of Iran: Continuation of Antidumping Duty Order

AGENCY: Enforcement and Compliance, International Trade Administration, Department of Commerce.

SUMMARY: The Department of Commerce (the Department) and the International Trade Commission (the ITC) have determined that revocation of the antidumping duty order on certain in-shell (raw) pistachios (pistachios) from the Islamic Republic of Iran (Iran) would likely lead to a continuation or recurrence of dumping and material injury to an industry in the United States. Therefore, the Department is publishing a notice of continuation of this order.

DATES: Effective July 13, 2017.

FOR FURTHER INFORMATION CONTACT: Madeline Heeren, AD/CVD Operations, Office VI, Enforcement and Compliance, International Trade Administration, U.S. Department of Commerce, 1401 Constitution Avenue NW., Washington, DC 20230; telephone (202) 482-9179.

SUPPLEMENTARY INFORMATION:

Background

On July 17, 1986, the Department published the antidumping duty order on certain in-shell pistachios from Iran.¹ On April 1, 2016, the Department initiated ² and the ITC instituted ³ the second five-year (sunset) review of the Order pursuant to section 751(c) of the Tariff Act of 1930, as amended (the Act). No respondent interested party submitted a timely substantive response. Pursuant to section 751(c)(3)(B) of the Act and 19 CFR 351.218(e)(1)(ii)(C)(2), the Department conducted an expedited (120-day) sunset review of the Order. As a result of this sunset review, the Department determined that revocation of the Order would likely lead to a continuation or recurrence of dumping and, therefore, notified the ITC of the magnitude of the margins of dumping likely to prevail should the order be revoked, pursuant to sections 751(c)(1) and 752(b) and (c) of the Act.⁴

¹ See Antidumping Duty Order; Certain In-Shell Pistachios from Iran, 51 FR 25922 (July 17, 1986) (Order).

² See Initiation of Five-Year (“Sunset”) Review, 81 FR 18829 (April 1, 2016) (Sunset Initiation).

³ See Certain Raw In-Shell Pistachios from Iran; Institution of a Five-Year Review, 81 FR 18882 (April 1, 2016).

⁴ See Certain In-Shell (Raw) Pistachios from the Islamic Republic of Iran: Final Results of the Expedited Sunset Review of the Antidumping Duty Order, 81 FR 51857 (August 5, 2016), and accompanying Issues and Decision Memorandum.

On June 30, 2017, the ITC published its determination, pursuant to section 751(c) and 752 of the Act, that revocation of the Order would likely lead to continuation or recurrence of material injury to an industry in the United Sates within a reasonably foreseeable time.⁵

⁵ See Investigation No. 731-TA-287 (Second Review) Raw In-Shell Pistachios from Iran, 82 FR 29931 (June 30, 2017), and USITC Publication 4701 (June 2016), entitled Raw In-Shell Pistachios from Iran.

Scope of the Order

The products covered by the order are raw, in-shell pistachio nuts from which the hulls have been removed, leaving the inner hard shells, and edible meats from Iran.⁶ This merchandise is provided for in subheading 0802.51.00.00 of the Harmonized Tariff Schedule of the United States (HTSUS). Although the HTSUS subheadings are provided for convenience and customs urposes, the written description of the scope of this order is dispositive.

⁶ See Certain In-Shell Pistachios from Iran; Clarification of Scope in Antidumping Duty Investigation, 51 FR 23254 (June 26, 1986).

Continuation of the Order

As a result of the determinations by the Department and the ITC that revocation of the Order would likely lead to a continuation or recurrence of dumping and material injury to an industry in the United States, pursuant to section 751(d)(2) of the Act and 19 CFR 351.218(a), the Department hereby orders the continuation of the Order. U.S. Customs and Border Protection will continue to collect cash deposits at the rates in effect at the time of entry for all imports of subject merchandise.

The effective date of the continuation of the Order will be the date of publication in the Federal Register of this notice of continuation. Pursuant to section 751(c)(2) of the Act, the Department intends to initiate the next five-year review of this order not later than 30 days prior to the fifth anniversary of the effective date of continuation notice.

This five-year (sunset) review and this notice are in accordance with sections 751(c) and 751(d)(2) of the Act and published pursuant to section 777(i)(1) of the Act and 19 CFR 351.218(f)(4).

Dated: July 7, 2017.
Gary Taverman,
Deputy Assistant Secretary for Antidumping and Countervailing Duty Operations, performing the non-exclusive functions and duties of the Assistant Secretary for Enforcement and Compliance.

[FR Doc. 2017-14707 Filed 7-12-17; 8:45 am]

BILLING CODE 3510-DS-P